ENVIRONMENTAL PROTECTION AGENCY

[EPA-R06-OW-2017-0217; FRL-9961-96-Region 6]

Notice of Proposed NPDES General Permit; Proposed NPDES General Permit for New and Existing Sources and New Dischargers in the Offshore Subcategory of the Oil and Gas Extraction Category for the Western Portion of the Outer Continental Shelf of the Gulf of Mexico (GMG290000)

AGENCY: Environmental Protection Agency (EPA).

ACTION: Notice.

SUMMARY: The Water Division Director of Region 6 today proposes to reissue the National Pollutant Discharge Elimination System (NPDES) General Permit No. GMG290000 for existing and new sources and new dischargers in the Offshore Subcategory of the Oil and Gas Extraction Point Source Category, located in and discharging to the Outer Continental Shelf offshore of Louisiana and Texas. The discharge of produced water to that portion of the Outer Continental Shelf from Offshore Subcategory facilities located in the territorial seas of Louisiana and Texas is also authorized by this permit.

This draft permit proposes to retain, with certain modifications, the limitations and conditions of the existing 2012 issued permit (2012 permit). The 2012 permit limitations conform with the Oil and Gas Offshore Subcategory Guidelines and contain additional requirements to assess impacts from the discharge of produced water to the marine environment, as required by section 403(c) of the Clean Water Act.

DATES: Comments must be received by July 10, 2017.

ADDRESSES: Submit your comments, identified by Docket ID No. EPA-R06-OW-2017-0217 to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Ms. Evelyn Rosborough, Region 6, U.S. Environmental Protection Agency, 1445 Ross Avenue, Dallas, Texas 75202-2733.Telephone: (214) 665-7515. Email: rosborough.evelyn@epa.gov.

A complete draft permit and a fact sheet more fully explaining the proposal may be obtained online from the Federal eRulemaking Portal by accessing the Docket listed above or from Ms. Rosborough. In addition, the Agency's current administrative record on the proposal is available for examination at the Region's Dallas offices during normal working hours after providing Ms. Rosborough 24 hours advance notice.

PUBLIC HEARING: Public meetings and hearings on the proposed permit will be held during the comment period. EPA will publish public hearing times and places in the following newspapers: Houston Chronicle and New Orleans Advocate. The meetings will include a presentation on the proposed permit followed by the opportunity for questions and answers. The public hearings will be held in accordance with the requirements of 40 CFR 124.12. At the public hearing, any person may submit oral or written statements and data concerning the proposed permit. Any person who cannot attend one of the public hearings may still submit written comments, which have the same weight as comments made at the public hearing, through the end of the public comment period.

Public meeting and hearing times and places could be found online from the Federal eRulemaking Portal: http://www.regulations.gov with Docket ID No. listed above.

SUPPLEMENTARY INFORMATION:

Other statutory and regulatory requirements are discussed in the fact sheet that include: Oil Spill Requirement; Ocean Discharge Criteria Evaluation; Marine Protection, Research, and Sanctuaries Act; National Environmental Policy Act; Magnuson-Stevens Fisheries Conservation and Management Act; Endangered Species Act; State Water Quality Standards and State Certification; Coastal Zone Management Act; Paperwork Reduction Act; and Regulatory Flexibility Act.

Dated: April 7, 2017.
David F. Garcia,
Deputy Director, Water Division.

[FR Doc. 2017-09508 Filed 5-10-17; 8:45 am]

BILLING CODE 6560-50-P